DEPARTMENT OF HEALTH AND HUMAN SERVICES

Office of the National Coordinator for Health Information Technology; American Health Information Community Meeting

ACTION: Meeting announcement.

SUMMARY: This notice announces the meeting date for the 25th meeting of the American Health Information Community in accordance with the Federal Advisory Committee Act (Pub. L. No. 92-463, 5 U.S.C., App.) The American Health Information Community will advise the Secretary and recommend specific actions to achieve a common interoperability framework for health information technology (IT).

Meeting Date: November 12, 2008, from 8:30 a.m. to 2:45 p.m. (Eastern)

ADDRESSES: Hubert H. Humphrey building (200 Independence Avenue, SW., Washington, DC 20201), Room 800.

SUPPLEMENTARY INFORMATION: The meeting will include updates on the Healthcare Information Technology Standards Panel, the Certification Commission for Healthcare Information Technology, and hospital health information technology adoption rates. Final reports on the Electronic Health Records, Chronic Care, Consumer Empowerment, Quality, and Personalized Healthcare Workgroups will also be presented. Finally, an update on the AHIC Successor organization will be heard.

For further information, visit http://www.hhs.gov/healthit/ahic.html.

A Web cast of the Community meeting will be available on the NIH Web site at: http://www.videocast.nih.gov/.

If you have special needs for the meeting, please contact (202) 690-7151.

Dated: October 15, 2008.
Judith Sparrow,
Director, American Health Information Community, Office of Programs and Coordination, Office of the National Coordinator for Health Information Technology.

[FR Doc. E8-24991 Filed 10-20-08; 8:45 am]

BILLING CODE 4150-45-P